DEPARTMENT OF HEALTH AND HUMAN SERVICES

Administration for Children and Families

Submission for OMB Review; Comment Request

Title: (1) TANF Data Report, ACF-199 (Including TANF Sampling and Statistical Methods Manual); (2) SSP-MOE Data Report, ACF-209 (Including TANF Sampling and Statistical Methods Manual).

OMB No.: 0970-0199.

Description: 42 U.S.C. 611 requires States and Tribal grantees to collect on a monthly basis and report to DHHS on a quarterly basis a wide variety of disaggregated case record information for their programs funded under TANF. If a State wants to qualify for a high performance bonus or receive a caseload reduction credit, the State must submit similar data for its separate State programs. A State or Tribal grantee may comply with these requirements by collecting or submitting case record information for its entire caseload or for a portion of the caseload that is obtained through the use of scientifically acceptable sampling methods. Currently 22 States are sampling their monthly caseloads to submit the required disaggregted data. We expect similar numbers to use sampling in the future and be subject to the following revisions. We are proposing to revise the current information collection requirements by: (1) Issuing the “TANF Sampling and Statistical Methods Manual” to provide guidance to States and Tribal grantees on the sampling process; (2) adding a section four to both data collection forms. The TANF Data Report—Section Four is designed to collect the weighting data for the TANF program. The SSP-MOE Data Report—Section Four is designed to collect the weighting for the SSP-MOE programs. The current OMB inventory indicates an approved burden of 516,680 hours for the TANF Data Report and the SSP-MOE Data Report. We estimate that the proposed revisions will increase the burden by 2,952 hours for a total revised estimated annual burden of 519,632 hours.

Respondents: State, Local or Tribal Government

Annual Burden Estimates
Instrument | Number of respondents | Number of responses per respondent | Average burden hours per response | Total burden hours
TANF Data Report | 55 | 4 | 2,153.56 | 473,783
SSP-MOE Data Report | 17 | 4 | 674.25 | 45,849

Estimated Total Annual Burden Hours: 519,632

Additional Information: Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Ms. Wendy Taylor.

Dated: February 25, 2000.
Bob Sargis,
Acting Reports Clearance Officer.

[FR Doc. 00-4969 Filed 3-1-00; 8:45 am]

BILLING CODE 4184-01-M